DEPARTMENT OF COMMERCE

National Oceanic and Atmospheric Administration

[I.D. 012907B]

Pacific Fishery Management Council; Public Meeting

AGENCY: National Marine Fisheries Service (NMFS), National Oceanic and Atmospheric Administration (NOAA), Commerce.

ACTION: Notice of public meetings.

SUMMARY: The Pacific Fishery Management Council's (Council) Ad Hoc Trawl Individual Quota Committee (TIQC) will hold a working meeting, which is open to the public.

DATES: The TIQC meeting will be held Tuesday, February 20, 2007, from 1 p.m. until business for the day is completed. The TIQC will reconvene on Wednesday, February 21, 2007, at 8:30 a.m. and meet until business for the day is completed. The TIQC will reconvene on Thursday, February 22, 2007, at 8:30 a.m. and adjourn no later than 4 p.m.

ADDRESSES: The TIQC meeting will be held at the Red Lion Hotel - On the River Jantzen Beach, Multnomah Room, 909 N Hayden Island Drive, Portland, OR 97217; telephone: (503) 283-4466.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The Council is considering an individual quota program to cover limited entry trawl landings in the West Coast groundfish fishery. Permit stacking and cooperative alternatives are also being considered. The purpose of the TIQC working meeting is to review and further develop alternatives under analysis, with particular emphasis on the Groundfish Allocation Committee (GAC) report from the GAC's December meeting and Groundfish Management Team comments from the GMT's January 2007 meeting.

Although non-emergency issues not contained in the TIQC meeting agenda may come before the TIQC for discussion, those issues may not be the subject of formal TIQC action during these meetings. TIQC action will be restricted to those issues specifically listed in this notice and to any issues arising after publication of this notice requiring emergency action under Section 305(c) of the Magnuson-Stevens Fishery Conservation and Management Act, provided the public has been notified of the TIQC's intent to take final action to address the emergency.

Special Accommodations

The meeting is physically accessible to people with disabilities. Requests for sign language interpretation or other auxiliary aids should be directed to Ms. Carolyn Porter at (503) 820-2280 at least 5 days prior to the meeting date.

Dated: January 30, 2007.
Tracey L. Thompson,
Acting Director, Office of Sustainable Fisheries, National Marine Fisheries Service.

[FR Doc. E7-1700 Filed 2-1-07; 8:45 am]

BILLING CODE 3510-22-S